Title 3—

The President

Proclamation 7668 of April 30, 2003

Asian/Pacific American Heritage Month, 2003

By the President of the United States of America

A Proclamation

America is strengthened by the rich cultural diversity of our people, and we are blessed to be a Nation that welcomes individuals of all races, religions, and cultural backgrounds. The values and traditions of the Asian/Pacific-American community—love of family, entrepreneurship, excellence in education, and community service—have strengthened us as a Nation. During Asian/Pacific American Heritage Month, we celebrate the contributions of these talented and hard-working citizens and recognize their rich legacy of ingenuity, perseverance, and achievement.

Many Asian/Pacific immigrants came to America to discover the promise of our Nation and to realize their dreams. Their contributions were critical in establishing a robust economy. Asian/Pacific Americans also worked tirelessly to build our national railroad infrastructure, paving the way for our western expansion and growth as a world leader. Generations of Asian/Pacific Americans have proudly served our Nation with honor and courage in wars and conflicts, including most recently in Operation Iraqi Freedom and Operation Enduring Freedom. Today, as in the past, their dedication and service to advancing peace in a troubled world upholds the values that make our country strong.

Asian/Pacific Americans are also helping to shape America's future. As entrepreneurs, artists, educators, public servants, scientists, and explorers, they challenge the minds of our next generation, expand commerce and innovation, probe the frontiers of space, and search for cures for the world's diseases. Our children are also inspired by the contributions and sacrifices of dedicated individuals such as inventor An Wang, experimental physicist Chien-Shiung Wu, Challenger astronaut Ellison Onizuka, Columbia astronaut Kalpana Chawla, and sculptor Isamu Noguchi.

Since the earliest days of America, people from all cultures have traveled to our Nation seeking the promise of freedom, opportunity, and justice. As an integral part of our society, Americans of Asian and Pacific heritage share in the pursuit of this American Dream. I join with all Americans in celebrating this rich and diverse culture, and I encourage every citizen to recognize the role of Asian/Pacific Americans in building and sustaining our Nation.

To honor the achievements of Asian/Pacific Americans, the Congress by Public Law 102-450 as amended, has designated the month of May each year as “Asian/Pacific American Heritage Month.”

NOW, THEREFORE, I, GEORGE W. BUSH, President of the United States of America, do hereby proclaim May 2003 as Asian/Pacific American Heritage Month. I call upon our citizens to learn more about the history of Asian/Pacific Americans and how they have contributed to the culture and heritage of our Nation.

IN WITNESS WHEREOF, I have hereunto set my hand this thirtieth day of April, in the year of our Lord two thousand three, and of the Independence of the United States of America the two hundred and twenty-seventh.

B

[FR Doc. 03-11188

Filed 5-2-03; 8:45 am]

Billing code 3195-01-P